DEPARTMENT OF ENERGY

Federal Energy Regulatory Commission

[Project No. 2905-033]

Village of Enosburg Falls; Municipal Water and Light Department; Notice of Comment Period Extension

On November 8, 2018, the Village of Enosburg Falls, Vermont held a public meeting and site visit in support of the re-licensing process for the Enosburg Falls Hydroelectric Project No. 2905. Pursuant to 18 CFR 16.8(b)(5), participants must file comments within 60 days of the public meeting. Due to the funding lapse at certain federal agencies between December 22, 2018 and January 25, 2019, the Commission is extending the comment period to February 12, 2019.

Dated: February 8, 2019.
Kimberly D. Bose,
Secretary.

[FR Doc. 2019-02341 Filed 2-13-19; 8:45 am]

BILLING CODE 6717-01-P